DEPARTMENT OF HOUSING AND URBAN DEVELOPMENT

[Docket No. FR-5200-FA-22]

Announcement of Funding Awards for Fiscal Year 2008; Early Doctoral Student Research Grant Program

AGENCY: Office of the Assistant Secretary for Policy Development and Research, HUD.

ACTION: Announcement of funding awards.

SUMMARY: In accordance with Section 102(a)(4)(C) of the Department of Housing and Urban Development Reform Act of 1989, this document notifies the public of funding awards for the Fiscal Year (FY) 2008 Early Doctoral Student Research Grant (EDSRG) Program. The purpose of this document is to announce the names and addresses of the award winners and the amount of the awards to be used to help doctoral students cultivate their research skills through the preparation of research manuscripts that focus on housing and urban development issues.

FOR FURTHER INFORMATION CONTACT: Susan Brunson, Office of University Partnerships, Department of Housing and Urban Development, Room 8106, 451 Seventh Street, SW., Washington, DC 20410, Telephone (202) 402-3852. To provide service for persons who are hearing-or speech-impaired, this number may be reached via TTY by Dialing the Federal Information Relay Service on (800) 877-8339 or (202) 708-1455. (Telephone numbers, other than “800” TTY numbers, are not toll free).

SUPPLEMENTARY INFORMATION: The EDSRG Program provides funds to eligible doctoral students to cultivate their research skills through preparation of research manuscripts that focus on policy-relevant housing and urban development issues. Students, who are in the early stages of their doctoral studies, have 12 months to complete a major research study. The maximum amount to be awarded to a doctoral student is $15,000.

The Office of University Partnerships under the Assistant Secretary for Policy Development and Research (PD&R) administers this program. In addition to this program, the Office of University Partnerships administers HUD's ongoing grant programs to institutions of higher education as well as creates initiatives through which colleges and universities can bring their traditional missions of teaching, research, service, and outreach to bear on the pressing local problems in their communities.

The Catalog of Federal Domestic Assistance number for this program is 14.517. On May 12, 2008, (Vol. 73, No. 92) HUD published a Notice of Funding Availability (NOFA) announcing the availability of $100,000 in FY 2008 funds for the EDSRG Program. The Department reviewed, evaluated and scored the applications received based on the criteria in the NOFA. As a result, HUD has funded the applications announced below, and in accordance with Section 102(a)(4)(C) of the Department of Housing and Urban Development Reform Act of 1989 (103 Stat. 1987, U.S.C. 3545), the Department is publishing the names, addresses, and amounts of those awards as shown in Appendix A.

Dated: October 14, 2008.
Darlene F. Williams,
Assistant Secretary for Policy Development and Research.

Appendix A—Fiscal Year 2008 Funding Awards for Early Doctoral Student Research Grant Program
Recipient | City/State/Zip Code | Award
Colorado Seminary, Ms. Crystal Streit, 2199 S. University Boulevard, Student: Laurie Walker | Denver CO 80208 | $14,999
University of Illinois at Chicago, Mr. Luis Vargas, 809 S. Marshfield Avenue, Student: Leonor Vanik | Chicago IL 60612 | 14,981
University of Illinois at Chicago, Mr. Luis Vargas, 809 S. Marshfield Avenue, Student: Andrew J. Greenlee | Chicago IL 60612 | 10,299
Northern Illinois University, Division of Public Administration, Ms. Dara Little, Student: Adrienne Halloway | DeKalb IL 60115 | 14,721
The Regents of the University of Michigan, Ms. Gayle Jackson, 3003 S. State Street, Student: Robert Walsh | Ann Arbor, MI 48109 | 15,000
University of Washington, Lynne Chronister, 4333 Brooklyn Avenue, NE, Student: Eric Waithaka | Seattle, WA 98195 | 15,000
Portland State University, Pauline Jivanjee, PhD, University Center Building, Suite 400, 527 SW Hall, PO Box 751, Student: Cindy Marchand-Cecil | Portland, OR 97207 | 15,000

[FR Doc. E8-25059 Filed 10-21-08; 8:45 am]

BILLING CODE 4210-67-P